FEDERAL EMERGENCY MANAGEMENT AGENCY

[FEMA-1425-DR]

Texas; Amendment No. 5 to Notice of a Major Disaster Declaration

AGENCY: Federal Emergency Management Agency (FEMA).

ACTION: Notice.

SUMMARY: This notice amends the notice of a major disaster declaration for the State of Texas, (FEMA-1425-DR), dated July 4, 2002, and related determinations.

EFFECTIVE DATE: July 16, 2002.

FOR FURTHER INFORMATION CONTACT: Rich Robuck, Readiness, Response and Recovery and Directorate, Federal Emergency Management Agency, Washington, DC 20472, (202) 646-2705 or Rich.Robuck@fema.gov.

SUPPLEMENTARY INFORMATION: The notice of a major disaster declaration for the State of Texas is hereby amended to include the following areas among those areas determined to have been adversely affected by the catastrophe declared a major disaster by the President in his declaration of July 4, 2002:

Bandera, Bexar, Blanco, Gillespie, Kendall, Kerr, Medina, and Uvalde Counties for Categories C through G under the Public Assistance program (already designated for Individual Assistance, including direct Federal assistance under section 408 of the Stafford Act, 42 USC 5174 and Categories A and B under the Public Assistance program).

Duval, McMullen, and Jim Wells Counties for Individual Assistance, including direct Federal assistance under section 408 of the Stafford Act, 42 USC 5174.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Joe M. Allbaugh,
Director.

[FR Doc. 02-18952 Filed 7-25-02; 8:45 am]

BILLING CODE 6718-02-P